MERIT SYSTEMS PROTECTION BOARD

Sunshine Act Meeting

Notice is hereby given, pursuant to the provisions of the Government in the Sunshine Act (5 U.S.C. 552b), that at 2:30 p.m. on Friday, March 23, 2001, the members of the Merit Systems Protection Board met in closed session. The purpose of the meeting was to determine the disposition of certain motions and petitions filed in the case of Azdell and Fishman v. Office of Personnel Management, docket numbers DC-300A-97-0368-N-1, DC-300A-97-0368-N-2, DC-97-0369-N-1, DC-97-0369-N-2, DC-300A-97-0368-C-1, DC-300A-97-0368-C-2, DC-300A-97-0369-C-1, and DC-300A-97-0369-C-2.

In calling the meeting, the Board determined that Board business required its consideration of these matters on less than seven days' notice to the public; that no earlier notice of the meeting was practicable; that the public interest did not require consideration of the matters in a meeting open to public observation; and that the matters could be considered in a closed meeting by authority of 5 U.S.C. 552b(c)(10).

The meeting was held in the Board's conference room at 1615 M Street, NW., Washington, DC 20419

Dated: March 27, 2001.
Robert E. Taylor,
Clerk of the Board.

[FR Doc. 01-7931 Filed 3-27-01; 8:45 am]

BILLING CODE 1400-01-M